DEPARTMENT OF THE INTERIOR

National Park Service

Winter Use Plans, Draft Environmental Impact Statement, Yellowstone and Grand Teton National Parks, and John D. Rockefeller, Jr. Memorial Parkway, Wyoming

AGENCY: National Park Service, Department of the Interior.

ACTION: Notice of Availability of the Draft Environmental Impact Statement for the Winter Use Plans, Yellowstone and Grand Teton National Parks, and John D. Rockefeller, Jr. Memorial Parkway.

SUMMARY: Pursuant to the National Environmental Policy Act of 1969, 42 U.S.C. 4332(2)(C), the National Park Service announces the availability of a Draft Environmental Impact Statement for the Winter Use Plans, Yellowstone and Grand Teton National Parks, and John D. Rockefeller, Jr. Memorial Parkway, Wyoming.

DATES: The National Park Service will accept comments on the Draft Environmental Impact Statement from the public for 60 days from the date the Environmental Protection Agency publishes the Notice of Availability. Public meetings are scheduled at Cody, Wyoming on May 16, 2007 and West Yellowstone, Montana on May 17, 2007; time and place to be determined.

ADDRESSES: Information will be available for public review and comment online at http://parkplanning.nps.gov, in the office of Superintendent Suzanne Lewis, P.O. Box 168, Yellowstone National Park, WY 82190, 307-344-2019 and in the office of Superintendent Mary Gibson-Scott, Grand Teton National Park, P.O. Drawer 170, Moose, WY 83012-0170, 307-739-3300.

FOR FURTHER INFORMATION CONTACT: Debbie VanDePolder, P.O. Box 168, Yellowstone National Park, WY, 82190, 307-344-2019, yell_winter_use@nps.gov.

SUPPLEMENTARY INFORMATION: If you wish to comment, you may submit your comments by any one of several methods. You may mail comments to Winter Use Plan, P.O. Box 168, Yellowstone National Park, WY, 82190. You may also comment via the Internet at http://parkplanning.nps.gov. If you do not receive a confirmation from the system that we have received your Internet message, contact us directly at 307-344-2019. Finally, you may hand-deliver comments to Superintendent's Office, Headquarters Building, Mammoth Hot Springs, Yellowstone National Park, WY. Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: March 2, 2007.
Michael D. Snyder,
Director, Intermountain Region, National Park Service.

[FR Doc. E7-6040 Filed 4-2-07; 8:45 am]

BILLING CODE 4312-CT-P